DEPARTMENT OF ENERGY

Federal Energy Regulatory Commission

[Docket No. RM98-10-008; Docket No. RM98-12-008]

Regulation of Short-Term Natural Gas Transportation Services; Regulation of Interstate Natural Gas Transportation Services; Notice of Petition

March 21, 2001.

Take notice that on March 16, 2001, the American Gas Association (AGA) filed a reply to the February 1, 2001, Gas Industry Standards Board (GISB) report and a petition for clarification and a directive from the Commission regarding the requirement for capacity release scheduling equality.

AGA noted that in Order No. 637 the Commission amended the regulations to achieve scheduling equality between released capacity and interstate pipeline services. Because its standards were inconsistent with this regulatory change, GISB undertook to amend its capacity release standards. On February 2, 2001, GISB filed a report with the Commission dated February 1, 2001, which indicated GISB could not arrive at a consensus agreement on standards addressing “flowing day recalls” of capacity releases. AGA responded to that report. In addition, AGA expressed concern that no pipeline is yet adhering to the requirement for scheduling equality for released capacity.

AGA petitioned the Commission to rectify noncompliance with Order No. 637. Specifically, AGA requested the Commission to:

• Direct pipelines to immediately implement tariff changes incorporating timelines and procedures to allow released capacity, including recalled released capacity, to be nominated at any of the nomination deadlines currently in place.

• Provide clarification as to the impact on and instruction for revising GISB standards to reflect the Commission's scheduling equality policy.

• Consider implementing the use of a contract pre-approval process for capacity release transactions to facilitate scheduling equality.

• Require pipelines to effectuate recalls by providing recall notifications.

Any person desiring to be heard or to protest said filing should file a motion to intervene or a protest with the Federal Energy Regulatory Commission, 888 First Street, NE., Washington, DC 20426, in accordance with sections 385.214 or 385.211 of the Commission's Rules and Regulations. All such motions or protests must be filed on or before April 16, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-7466 Filed 3-26-01; 8:45 am]

BILLING CODE 6717-01-M